DEPARTMENT OF TRANSPORTATION

Federal Aviation Administration

Notice of Membership of a National Parks Overflights Advisory Group

AGENCY: National Park Service, Interior, Federal Aviation Administration, DOT.

ACTION: Notice.

SUMMARY: The National Park Service (NPS) and Federal Aviation Administration (FAA) in accordance with the National Parks Air Tour Management Act of 2000, announce the membership of the National Parks Overflights Advisory Group (NPOAG). The NPOAG is formed to provide continuing advice and counsel with respect to commercial air tour operations over and near national parks. This notice informs the public of the members initially selected to serve on the advisory group and next actions of the advisory group.

DATES: The National Parks Overflights Advisory Group was established on April 5, 2001; this notice announces those members initially selected to serve as the Advisory Group.

FOR FURTHER INFORMATION CONTACT: Howard Nesbitt, Flight Standards Service, Federal Aviation Administration, 800 Independence Ave., SW., Washington, DC 20591, telephone: (202) 493-4981, or Marvin Jensen, Soundscapes Office, National Park Service, 1201 Oak Ridge Drive, Suite 200, Ft. Collins, Colorado, 80525, telephone: (970) 225-3563.

SUPPLEMENTARY INFORMATION:

Background

The National Parks Air Tour Management Act of 2000 (the Act) was enacted on April 5, 2000, as Public Law 106-181. The Act applies to “commercial air tour operations” occurring over a unit of the national park system or tribal lands within or abutting a national park. The Act defines a commercial air tour operation and lists the factors that the Administrator may consider in determining whether or not an operator is conducting a commercial air tour operation. See Section 803 of the Act, to be codified at 49 U.S.C. section 40128(f)(4)(B). Once defined as a commercial air tour operation, that operation would be subject to the air tour management plan (ATMP) for that park. The process for the development of an ATMP will be delineated in future rulemaking which will codify the Act. In the meantime, to meet the mandate of the public law, the FAA and NPS publish this notice announcing the initial selections of membership on the Advisory Group who will serve to advise and counsel the persons implementing the regulations when they are adopted.

Advisory Group Requirements of Pub. L. 106-181

The Act requires the establishment of the advisory group within 1 year after its enactment. The advisory group is to be comprised of a balanced group of representatives of general aviation; commercial air tour operations; environmental concerns; and Indian tribes. The Administrator and the Director (or their designees) are to serve as ex officio members of the group. Representatives of the Administrator and Director will serve alternating 1-year terms as chairman of the advisory group. The Administrator's representative will serve the first term, which will terminate at the end of the calendar year following the year in which the advisory group is established.

The advisory group will “provide advice, information, and recommendations to the Administrator and the Director—

(1) on the implementation of this title [the Act] and the amendments made by this title;

(2) on commonly accepted quiet aircraft technology for use in commercial air tour operations over a national park or tribal lands, which will receive preferential treatment in a given air tour management plan;

(3) on other measures that might be taken to accommodate the interests of visitors to national parks; and

(4) at the request of the Administrator and the Director, safety, environmental, and other issues related to commercial air tour operations over a national park or tribal lands.”

Members of the advisory group may be allowed certain travel expenses as authorized by section 5703 of title 5, United States Code, for intermittent Government service.

Request for Public Participation in the Advisory Group

On March 12, 2001, the FAA and NPS invited members of the public who are interested in serving on the advisory group to contact persons listed under FOR FURTHER INFORMATION CONTACT. Eleven requests were received. The FAA and NPS have selected the following persons to serve initially on the Advisory Group: Joseph Corrao, Helicopter Association International; Andrew Cebula, Aircraft Owners and Pilots Association; David Kennedy, National Air Transportation Association; Chip Dennerlein, National Parks Conservation Association; Charles Maynard, Friends of the Great Smoky Mountain National Park; and Boyd Evison, former National Park Superintendent and Regional Director. Ms. Germane White will represent the Confederated Salish and Kootani.

After the issuance of a final regulation implementing the Act, the agencies will consider other requests for membership on the Advisory Group. This may include persons who may, after the issuance of final rules implementing the Act, find that they have an interest to serve in an advisory role in the implementation of the regulations. At this time, however, the agencies find that the persons selected will serve as a balanced representation of the various interests of the national parks.

Next Actions of the Advisory Group

The FAA and NPS anticipate the Advisory Group may wish to hold at least one session before the issuance of final regulations on the legislation to establish organizational and administrative rules of conduct. The public will be informed of any such meetings by notice in the Federal Register.

Issued in Washington, DC on June 12, 2001.
Jane F. Garvey,
Administrator.

[FR Doc. 01-15419 Filed 6-18-01; 8:45 am]

BILLING CODE 4910-13-M